DEPARTMENT OF ENERGY

Federal Energy Regulatory Commission

Combined Notice of Filings #1

Take notice that the Commission received the following electric rate filings:

Docket Numbers: ER10-2835-008.

Applicants: Google Energy LLC.

Description: Compliance filing: Google Energy LLC Amended Market-Based Rate Tariff Filing to be effective 1/20/2017.

Filed Date: 3/28/17.

Accession Number: 20170328-5007.

Comments Due: 5 p.m. ET 4/18/17.

Docket Numbers: ER17-756-002.

Applicants: Midcontinent Independent System Operator, Inc.

Description: Tariff Amendment: 2017-03-27_SA 2884 OTP-Crowned Ridge Wind—Amended GIA (G736) to be effective 3/16/2017.

Filed Date: 3/27/17.

Accession Number: 20170327-5268.

Comments Due: 5 p.m. ET 4/17/17.

Docket Numbers: ER17-775-001.

Applicants: PJM Interconnection, L.L.C.

Description: Compliance filing: PJM Response to February 23, 2017 Deficiency Letter to be effective 2/1/2018.

Filed Date: 3/27/17.

Accession Number: 20170327-5224.

Comments Due: 5 p.m. ET 4/17/17.

Docket Numbers: ER17-940-001.

Applicants: Wisconsin Electric Power Company.

Description: Tariff Amendment: Amendment to Wisconsin Electric FERC Electric Rate Schedule No. 137 to be effective 4/4/2017.

Filed Date: 3/27/17.

Accession Number: 20170327-5273.

Comments Due: 5 p.m. ET 4/17/17.

Docket Numbers: ER17-1027-001.

Applicants: New Creek Wind LLC.

Description: Tariff Amendment: Re-collation filing clean-up to be effective 2/20/2017.

Filed Date: 3/28/17.

Accession Number: 20170328-5051.

Comments Due: 5 p.m. ET 4/18/17.

Docket Numbers: ER17-1307-000.

Applicants: Wisconsin River Power Company.

Description: Tariff Cancellation: Cancellation—Combustion Turbine Power Purchase Contract to be effective 3/1/2017.

Filed Date: 3/27/17.

Accession Number: 20170327-5136.

Comments Due: 5 p.m. ET 4/17/17.

Docket Numbers: ER17-1308-000.

Applicants: Wabash Valley Power Association, Inc.

Description: § 205(d) Rate Filing: Amendment to Formulary Rate Tariff—Optional Coop Solar Energy Rider to be effective 6/1/2017.

Filed Date: 3/27/17.

Accession Number: 20170327-5200.

Comments Due: 5 p.m. ET 4/17/17.

Docket Numbers: ER17-1309-000.

Applicants: Midcontinent Independent System Operator, Inc., Ameren Illinois Company.

Description: § 205(d) Rate Filing: 2017-03-27_SA 2765 MidAmerican Energy Company-Ameren Illinois TIA to be effective 3/28/2017.

Filed Date: 3/27/17.

Accession Number: 20170327-5211.

Comments Due: 5 p.m. ET 4/17/17.

Docket Numbers: ER17-1310-000.

Applicants: New York Independent System Operator, Inc.

Description: § 205(d) Rate Filing: NYDPS section 205—cost allocation for PPTPP to be effective 5/26/2017.

Filed Date: 3/27/17.

Accession Number: 20170327-5213.

Comments Due: 5 p.m. ET 4/17/17.

Docket Numbers: ER17-1311-000.

Applicants: Midcontinent Independent System Operator, Inc.

Description: Tariff Cancellation: 2017-03-27_SA 2884 Cancellation of Amended G736 v32 to be effective 1/7/2017.

Filed Date: 3/27/17.

Accession Number: 20170327-5270.

Comments Due: 5 p.m. ET 4/17/17.

Docket Numbers: ER17-1312-000.

Applicants: California Independent System Operator Corporation.

Description: § 205(d) Rate Filing: 2017-03-27 Department of Market Monitoring Oversight Committee Amendment to be effective 4/1/2017.

Filed Date: 3/27/17.

Accession Number: 20170327-5272.

Comments Due: 5 p.m. ET 4/17/17.

Docket Numbers: ER17-1313-000.

Applicants: NorthWestern Corporation.

Description: § 205(d) Rate Filing: SA 808—LGIA with Orion Wind Resources, LLC to be effective 3/31/2017.

Filed Date: 3/28/17.

Accession Number: 20170328-5000.

Comments Due: 5 p.m. ET 4/18/17.

Docket Numbers: ER17-1314-000.

Applicants: Arkwright Summit Wind Farm LLC.

Description: Baseline eTariff Filing: MBR Application to be effective 5/28/2017.

Filed Date: 3/28/17.

Accession Number: 20170328-5070.

Comments Due: 5 p.m. ET 4/18/17.

Docket Numbers: ER17-1315-000.

Applicants: Meadow Lake Wind Farm V LLC.

Description: Baseline eTariff Filing: MBR Application to be effective 5/28/2017.

Filed Date: 3/28/17.

Accession Number: 20170328-5072.

Comments Due: 5 p.m. ET 4/18/17.

Docket Numbers: ER17-1316-000.

Applicants: Quilt Block Wind Farm LLC.

Description: Baseline eTariff Filing: MBR Application to be effective 5/28/2017.

Filed Date: 3/28/17.

Accession Number: 20170328-5073.

Comments Due: 5 p.m. ET 4/18/17.

Docket Numbers: ER17-1317-000.

Applicants: Duke Energy Progress, LLC, Duke Energy Carolinas, LLC.

Description: § 205(d) Rate Filing: DEC-DEP PBOP Filing to be effective 1/1/2015.

Filed Date: 3/28/17.

Accession Number: 20170328-5075.

Comments Due: 5 p.m. ET 4/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2017.
Kimberly D. Bose,
Secretary.

[FR Doc. 2017-06470 Filed 3-31-17; 8:45 am]

BILLING CODE 6717-01-P